DEPARTMENT OF DEFENSE

GENERAL SERVICES ADMINISTRATION

NATIONAL AERONAUTICS AND SPACE ADMINISTRATION

48 CFR Part 40

[FAR Case 2023-008; Docket No. FAR-2023-0008; Sequence No. 1]

RIN 9000-AO56

Federal Acquisition Regulation: Prohibition on Certain Semiconductor Products and Services

AGENCY: Department of Defense (DoD), General Services Administration (GSA), and National Aeronautics and Space Administration (NASA).

ACTION: Advanced notice of proposed rulemaking; extension of comment period.

SUMMARY: DoD, GSA, and NASA issued an advance notice of proposed rulemaking (ANPR) on May 3, 2024, with considerations for amending the Federal Acquisition Regulation (FAR) to implement paragraphs (a), (b), and (h) in section 5949 of the James M. Inhofe National Defense Authorization Act for Fiscal Year 2023 that prohibits executive agencies from procuring or obtaining certain products and services that include covered semiconductor products or services effective December 23, 2027. The deadline for submitting comments is being extended from July 2, 2024, to August 2, 2024, to provide additional time for interested parties to provide comments on the ANPR. Additionally, DoD, GSA, and NASA are providing instructions on how to submit business confidential information within a public comment, for this ANPR only.

DATES: For the advanced notice of proposed rulemaking published on May 3, 2024 (89 FR 36738), submit comments by August 2, 2024.

ADDRESSES: Submit comments in response to FAR Case 2023-008 to the Federal eRulemaking portal at https://www.regulations.gov by searching for “FAR Case 2023-008”. Select the link “Comment Now” that corresponds with “FAR Case 2023-008”. Follow the instructions provided on the “Comment Now” screen. Please include your name, company name (if any), and “FAR Case 2023-008” on your attached document. If your comment cannot be submitted using https://www.regulations.gov, call or email the points of contact in the FOR FURTHER INFORMATION CONTACT section of this document for alternate instructions.

Instructions: Please submit comments only and cite “FAR Case 2023-008” in all correspondence related to this case. Public comments may be submitted as an individual, as an organization, or anonymously (see frequently asked questions at https://www.regulations.gov/faq). Comments submitted in response to this ANPR will be made publicly available and are subject to disclosure under the Freedom of Information Act. For this reason, please do not include in your comments information of a confidential nature, such as sensitive personal information or proprietary information, or any information that you would not want publicly disclosed unless you follow the instructions below for confidential comments. Summary information of the public comments received, including any specific comments, will be posted on regulations.gov.

All filers using the portal should use the name of the person or entity submitting comments as the name of their files, in accordance with the instructions below. Anyone submitting business confidential/proprietary information should clearly identify any business confidential/proprietary portion at the time of submission, file a statement justifying nondisclosure and referencing the specific legal authority claimed, and provide a non-confidential/non-proprietary version of the submission. Any business confidential information should be in an uploaded file that has a file name beginning with the characters “BC.” Any page containing business confidential information must be clearly marked “BUSINESS CONFIDENTIAL/PROPRIETARY” on the top of that page.

The corresponding non-confidential/non-proprietary version of those comments must be clearly marked “PUBLIC.” The file name of the non-confidential version should begin with the character “P.” The “BC” and “P” should be followed by the name of the person or entity submitting the comments or rebuttal comments. All filers should name their files using the name of the person or entity submitting the comments. Any submissions with file names that do not begin with a “BC” will be assumed to be public and will be made publicly available through https://www.regulations.gov.

To confirm receipt of your comment(s), please check https://www.regulations.gov, approximately two to three days after submission to verify posting.

FOR FURTHER INFORMATION CONTACT: For clarification of content, email Farpolicy@gsa.gov or call 202-969-4075. Please cite FAR Case 2023-008. For information pertaining to status, publication schedules, or alternate instructions for submitting comments if https://www.regulations.gov cannot be used, contact the Regulatory Secretariat Division at 202-501-4755 or GSARegSec@gsa.gov. Please cite FAR Case 2023-008.

SUPPLEMENTARY INFORMATION:

I. Background

DoD, GSA, and NASA published an advance notice of proposed rulemaking in the Federal Register at 89 FR 36738 on May 3, 2024. The comment period is extended to August 2, 2024, to allow additional time for interested parties to develop comments on the rule. Additionally, DoD, GSA, and NASA are providing instructions for how the public may submit business confidential information within a public comment, for this ANPR only.

List of Subjects in 48 CFR Part 40

Government procurement.

William F. Clark,
Director, Office of Government-wide Acquisition Policy, Office of Acquisition Policy, Office of Government-wide Policy.

[FR Doc. 2024-13819 Filed 6-25-24; 8:45 am]

BILLING CODE 6820-EP-P